DEPARTMENT OF JUSTICE

Notice of Lodging of Proposed Consent Decree Under the Clean Air Act

On November 1, 2019, the Department of Justice lodged a proposed Consent Decree with the United States District Court for the Northern District of Ohio in the lawsuit entitled United States, et al. v. MPLX, LP, et al., Civil Action No. 3:18-cv-02526.

The United States filed this lawsuit against MPLX and eleven of its subsidiaries for violations of the Clean Air Act at twenty natural gas processing facilities in six states. The complaint alleges, among other things, that MPLX violated Leak Detection and Repair requirements of the Clean Air Act's New Source Performance Standards. The proposed Consent Decree requires MPLX and its subsidiaries to take specified actions to come into compliance with the Clean Air Act, pay a civil penalty of $925,000, and undertake Supplemental Environmental Projects at a cost of $2,575,000. The Commonwealth of Pennsylvania and the States of West Virginia and Oklahoma have joined us in this action.

The publication of this notice opens a period for public comment on the consent decree. Comments should be addressed to the Assistant Attorney General, Environment and Natural Resources Division, and should refer to United States, et al. v. MPLX, LP, et al., D.J. Ref. No. 90-5-2-1-11374/1. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department website: https://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $52.75 for the consent decree and appendices (25 cents per page reproduction cost) or $31.50 for the consent decree without appendices, payable to the United States Treasury.

Robert Brook,
Assistant Section Chief, Environmental Enforcement Section, Environment and Natural Resources Division.

[FR Doc. 2018-24473 Filed 11-7-18; 8:45 am]

BILLING CODE 4410-CW-P